DEPARTMENT OF ENERGY

Federal Energy Regulatory Commission

[Project No. 14799-002]

Notice of Application Accepted for Filing, Soliciting Motions To Intervene and Protests, Ready for Environmental Analysis, and Soliciting Comments, Terms and Conditions, Recommendations, and Prescriptions; Lock 13 Hydro Partners, LLC

Take notice that the following hydroelectric application has been filed with the Commission and is available for public inspection.

a. Type of Application: Original Major License.

b. Project No.: P-14799-002.

c. Date filed: July 1, 2019.

d. Applicant: Lock 13 Hydro Partners, LLC.

e. Name of Project: Evelyn Hydroelectric Project.

f. Location: On the Kentucky River, in Lee and Estill Counties, Kentucky. The project would be located at the Commonwealth of Kentucky's existing Lock and Dam No. 13. No federal land would be occupied by the project works or located within the project boundary.

g. Filed Pursuant to: Federal Power Act 16 U.S.C. 791(a)-825(r).

h. Applicant Contact: David Brown Kinloch, Lock 13 Hydro Partners, LLC, 414 S Wenzel Street, Louisville, KY 40204; (502) 589-0975; email—kyhydropower@gmail.com.

i. FERC Contact: Sarah Salazar, (202) 502-6863 or sarah.salazar@ferc.gov.

j. Deadline for filing motions to intervene and protests, comments, terms and conditions, recommendations, and prescriptions: 60 days from the issuance date of this notice; reply comments are due 105 days from the issuance date of this notice.

The Commission strongly encourages electronic filing. Please file motions to intervene and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14799-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed Evelyn Project would be operated in a run-of-river mode and would consist of: (1) An existing estimated 223-acre impoundment at a pool elevation of 617.38 feet mean sea level (North American Vertical Datum of 1988); (2) an existing concrete dam with a 246-foot-long, 34-foot-wide, and 38.2-foot-high spillway and a 148-foot-long, 38.2-foot-high, and 52-foot-wide lock chamber; (3) a new 64-foot-long by 52-foot-wide reinforced concrete powerhouse that would be submerged in the existing lock chamber, with five horizontal turbine generator units each rated at 560-kilowatts (kW), for a total installed capacity of 2.8 megawatts (MW); (4) a new 110-foot-long buried cable transmitting power from the submerged powerhouse to a new two story, 30-foot-long by 20-foot-wide Control Building onshore which would house the project controls; (5) a new 600-foot-long, 12.47-kilovolt overhead transmission line that would connect to an existing Jackson Energy Cooperative line of the same voltage; and (6) appurtenant facilities. The estimated average annual generation would be 12,161 megawatt-hours.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, NOTICE OF INTENT TO FILE COMPETING APPLICATION, COMPETING APPLICATION, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural schedule: The application will be processed according to the following schedule. Revisions to the schedule will be made as appropriate.

Commission issues EA November 2020

Comments on EA December 2020

Dated: March 9, 2020.
Kimberly D. Bose,
Secretary.

[FR Doc. 2020-05154 Filed 3-12-20; 8:45 am]

BILLING CODE 6717-01-P